DEPARTMENT OF TRANSPORTATION

Federal Railroad Administration

Waiver Petition Docket Numbers FRA-2011-0002, CSX Transportation Railroad, and FRA-2004-17565, Union Pacific Railroad; Public Hearing

On February 23, 2011, the Federal Railroad Administration (FRA) published a notice in the Federal Register (76 FR 10087) announcing the CSX Transportation Railroad's (CSXT) request for a waiver to operate RailRunner equipment in RailRunner only operations; operate RailRunner equipment commingled with RoadRailer bi-modal equipment; and RailRunner equipment operating behind various conventional railcars. On November 22, 2010, FRA published a notice in the Federal Register (75 FR 224) announcing the Union Pacific Railroad's request for an amendment to their existing waiver of certain provisions of the Safety Appliance Standards, Title 49 Code of Federal Regulations (CFR) Part 231, and Power Brakes and Drawbars per 49 CFR part 232 relative to commingling RailRunner equipment with their RoadRailer trains.

FRA has determined upon investigation that the facts of these two proceedings warrant a public hearing. Accordingly, a hearing is hereby scheduled to begin at 10 a.m. on August 3, 2011, at the Courtyard by Marriott Capitol Hill/Navy Yard, 140 L Street, SE., Washington, DC 20003. Interested parties are invited to present oral statements at this hearing. For information on facilities or services for persons with disabilities or to request special assistance at the hearing, contact FRA's Docket Clerk, Jerome Melis-Tull by telephone, e-mail, or in writing at least 5 business days before the date of the hearing. Mr. Melis-Tull's contact information is as follows: FRA, Office of Chief Counsel, Mail Stop 10, 1200 New Jersey Avenue, SE., Washington, DC 20590; telephone 202-493-6030; e-mail Jerome.Melis-Tull@dot.gov.

The informal hearing will be conducted by a representative designated by FRA in accordance with FRA's Rules of Practice (see particularly 49 CFR 211.25). FRA's representative will make an opening statement outlining the scope of the hearing, as well as any additional procedures for the conduct of the hearing. The hearing will be a non-adversarial proceeding in which all parties will be given the opportunity to express their views regarding the waiver petition(s) without cross-examination. After all initial statements have been completed, those individuals wishing to make rebuttal statements will be given an opportunity to do so.

All communications concerning these proceedings should identify the appropriate docket numbers and may be submitted by any of the following methods:

• Web site: http://www.regulations.gov. Follow the online instructions for submitting comments.

• Fax: 202-493-2251

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC, on July 12, 2011.
Robert C. Lauby,
Deputy Associate Administrator for Regulatory and Legislative Operations.

[FR Doc. 2011-17930 Filed 7-14-11; 8:45 am]

BILLING CODE 4910-06-P